DEPARTMENT OF HOMELAND SECURITY

National Protection and Programs Directorate; Submission for Review: Infrastructure Protection Data Call 1670—NEW

AGENCY: National Protection and Programs Directorate, Infrastructure Protection, DHS.

ACTION: 30-Day Notice and request for comments.

SUMMARY: The Department of Homeland Security (DHS) invites the general public and other federal agencies the opportunity to comment on new information collection request 1670—NEW, Infrastructure Protection Data Call. As required by the Paperwork Reduction Act of 1995, (Pub. L. 104-13, 44 U.S.C. chapter 35) as amended by the Clinger-Cohen Act (Pub. L. 104-106), DHS is soliciting comments for this collection. The information collection was previously published in the Federal Register on July 23, 2008 at 73 FR 42820 allowing for a 60-day public comment period. No comments were received on this existing information collection. The purpose of this notice is to allow an additional 30 days for public comments.

DATES: Comments are encouraged and will be accepted until February 13, 2009. This process is conducted in accordance with 5 CFR 1320.1.

ADDRESSES: Interested persons are invited to submit written comments on the proposed information collection to the Office of Information and Regulatory Affairs, Office of Management and Budget, 725 17th Street, NW., Washington, DC 20503, Attention: Desk Officer for National Protection and Programs Directorate, DHS or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street, NW., Washington, DC 20503, Attention: Desk Officer for National Protection and Programs Directorate, DHS or via electronic mail to oira_submission@omb.eop.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Infrastructure Protection.

Title: Infrastructure Protection Data Call.

OMB Number: 1670—NEW.

Frequency: Once.

Affected Public: State, Local, Tribal.

Number of Respondents: 138.

Estimated Time per Respondent: 2 hours.

Total Burden Hours: 276 hours.

Total Burden Cost (capital/startup): None.

Total Burden Cost (operating/maintaining): None.

Description: The U.S. Department of Homeland Security (DHS) is the lead coordinator in the national effort to identify and prioritize the country's critical infrastructure and key resources (CIKR). At DHS, this responsibility is managed by the Office of Infrastructure Protection (IP) in the National Protection and Programs Directorate (NPPD). Beginning in FY2006, IP engaged in the annual development of a list of CIKR assets and systems to improve IP's CIKR prioritization efforts; this list is called the Critical Infrastructure List.

The Critical Infrastructure List includes assets and systems that, if destroyed, damaged or otherwise compromised, could result in significant consequences on a regional or national scale. This list provides a common basis for DHS and its security partners during the undertaking of CIKR protective planning efforts to keep our Nation safe. Collection of this information is directed and supported by Public Law 110-53 “Implementing Recommendations of the 9/11 Commission Act of 2007,” August 3, 2007; and Homeland Security Presidential Directive (HSPD) 7, “Critical Infrastructure Identification, Prioritization, and Protection,” December 17, 2003.

Dated: September 25, 2008.
Chase Garwood,
Chief Information Officer, National Protection and Programs Directorate, Department of Homeland Security.

Editorial Note: This document was received in the Office of the Federal Register on Thursday, January 8, 2009.

[FR Doc. E9-567 Filed 1-13-09; 8:45 am]

BILLING CODE 4410-10-P